DEPARTMENT OF ENERGY

Federal Energy Regulatory Commission

[Docket Nos. ER08-1113-004; ER08-1113-005]

California Independent System Operator Corporation; Notice of Technical Conference Comment Dates

August 21, 2009.

On August 20, 2009, the Commission convened a staff technical conference in the above-captioned proceedings. The purpose of the technical conference was to explore issues concerning Market Efficiency Enhancement Agreements between the California Independent System Operator Corporation and eligible market participants.

During the course of the technical conference, the Commission instructed the presenting parties to file their presentations in the above dockets.

All interested persons may file written comments on these presentations and/or issues addressed in the technical conference on or before September 10, 2009. Reply comments will be due on or before September 17, 2009.

Kimberly D. Bose,
Secretary.

[FR Doc. E9-20849 Filed 8-28-09; 8:45 am]

BILLING CODE 6717-01-P